NUCLEAR REGULATORY COMMISSION

10 CFR Part 20

RIN 3150-AH07

Radiation Exposure Reports: Labeling Personal Information, Confirmation of Effective Date

AGENCY: Nuclear Regulatory Commission.

ACTION: Direct final rule: Confirmation of effective date.

SUMMARY: The Nuclear Regulatory Commission (NRC) is confirming the effective date of June 9, 2003, for the direct final rule that was published in the Federal Register on March 25, 2003 (68 FR 14307). This direct final rule amended the NRC's regulations on written event reports submitted to the NRC that contain personal information.

DATES: The effective date of June 9, 2003, is confirmed for this direct final rule.

ADDRESSES: Documents related to this rulemaking, including comments received, may be examined at the NRC Public Document Room, Room O-1F23, 11555 Rockville Pike, Rockville, MD. These same documents may also be viewed and downloaded electronically via the rulemaking Web site (http://ruleforum.llnl.gov). For information about the interactive rulemaking Web site, contact Ms. Carol Gallagher at (301) 415-5905; e-mail CAG@nrc.gov.

FOR FURTHER INFORMATION CONTACT: Merri Horn, Office of Nuclear Material Safety and Safeguards, U.S. Nuclear Regulatory Commission, Washington, DC 20555, telephone (301) 415-8126 (e-mail: mlh1@nrc.gov.).

SUPPLEMENTARY INFORMATION: On March 25, 2003 (68 FR 14307), the NRC published in the Federal Register a direct final rule amending its regulations in 10 CFR part 20 requiring licensees to clearly label any section of the written event report containing personal information “Privacy Act Information: Not for Public Disclosure.” In the direct final rule, NRC stated that if no significant adverse comments were received, the direct final rule would become final on June 9, 2003. The NRC did not receive any comments that warranted withdrawal of the direct final rule. Therefore, this rule will become effective as scheduled.

Dated at Rockville, Maryland, this 16th day of May, 2003.
For the Nuclear Regulatory Commission.
Michael T. Lesar,
Chief, Rules and Directives Branch, Division of Administrative Services, Office of Administration.

[FR Doc. 03-12847 Filed 5-21-03; 8:45 am]

BILLING CODE 7590-01-P